DEPARTMENT OF LABOR

Employment and Training Administration

[TA-W-54,728]

Weiser Lock, a Division of Black and Decker Corp., Including Leased Workers of MOS, Inc. Inventory Management & Manufacturing Outsourcing, Robert Half Finance & Accounting, TEKWORK, Inc., Tucson, Arizona; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on May 19, 2004, applicable to workers of Weiser Lock, a division of Black and Decker Corporation, Tucson, Arizona. The notice will be published soon in the Federal Register.

At the request of the State agency, the Department reviewed the certification for workers of the subject firm. New information shows that leased workers of MOS, Inc. Inventory Management & Manufacturing Outsourcing; Robert Half Finance & Accounting; and TEKWORK, Inc. were employed at Weiser Lock, a division of Black and Decker Corporation, at the Tucson, Arizona location of the subject firm.

Based on these findings, the Department is amending this certification to include leased workers of MOS, Inc. Inventory Management & Manufacturing Outsourcing; Robert Half Finance & Accounting; and TEKWORK, Inc. working at Weiser Lock, a division of Black and Decker Corporation, Tucson, Arizona.

The intent of the Department's certification is to include all workers employed at Weiser Lock, a division of Black and Decker Corporation, who were adversely affected by a shift in production to Mexico.

The amended notice applicable to TA-W-54,728 is hereby issued as follows:

All workers of Weiser Lock, a division of Black and Decker Corporation, including leased workers of MOS, Inc. Inventory Management & Manufacturing Outsourcing; Robert Half Finance & Accounting; and TEKWORK, Inc. Tucson, Arizona, who became totally or partially separated from employment on or after February 9, 2003, through May 19, 2006, are eligible to apply for adjustment assistance under section 223 of the Trade Act of 1974, and are also eligible to apply for alternative trade adjustment assistance under section 246 of the Trade Act of 1974.

Signed at Washington, DC, this 27th day of May, 2004.
Richard Church,
Certifying Officer, Division of Trade Adjustment Assistance.

[FR Doc. 04-13383 Filed 6-14-04; 8:45 am]

BILLING CODE 4510-30-P